FEDERAL COMMUNICATIONS COMMISSION

Notice of Public Information Collection(s) Being Reviewed by the Federal Communications Commission for Extension Under Delegated Authority, Comments Requested

February 11, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments by April 21, 2003. If you anticipate that you will be submitting comments, but find it difficult to do so within the period of time allowed by this notice, you should advise the contact listed below as soon as possible.

ADDRESSES: Direct all comments to Judy Boley Herman, Federal Communications Commission, 445 12th Street, SW., Room 1-C804, Washington, DC 20554 or via the Internet to jboley@fcc.gov.

FOR FURTHER INFORMATION CONTACT: For additional information or copies of the information collections contact Judy Boley Herman at 202-418-0214 or via the Internet at jboley@fcc.gov.

SUPPLEMENTARY INFORMATION:

OMB Control No.: 3060-0400.

Title: Tariff Review Plan.

Form No.: N/A.

Type of Review: Extension of a currently approved collection.

Respondents: Business or other for profit.

Number of Respondents: 45.

Estimated Time Per Response: 61 hours.

Frequency of Response: On occasion, annual and biennial reporting requirements.

Total Annual Burden: 2,745 hours.

Annual Reporting and Recordkeeping Cost Burden: N/A.

Needs and Uses: Certain local exchange carriers are required annually to submit Tariff Review Plans in partial fulfillment of cost support material required by 47 CFR part 61. The information is used by the Commission and the public to determine the justness and reasonableness of rates, terms and conditions in tariffs as required by the Communications Act of 1934, as amended.

OMB Control No.: 3060-0421.

Title: New Service Reporting Requirements Under Price Cap Regulation.

Form No.: N/A.

Type of Review: Extension of a currently approved collection.

Respondents: Business or other for-profit entities.

Number of Respondents: 17.

Estimated Time Per Response: 20 hours.

Frequency of Response: Annual reporting requirement.

Total Annual Burden: 340 hours.

Annual Reporting and Recordkeeping Cost Burden: N/A.

Needs and Uses: The Commission seeks to extend for three years the current obligation of price cap local exchange carriers (LECs) to file annual reports comparing their actual results of operation with the projections made when those LECs filed tariff revisions to offer new services. The Commission staff continues to use these reports to monitor the new services to which these reports relate and to evaluate the reliability of subsequent new service showings submitted by these carriers.

OMB Control No.: 3060-0514.

Title: Section 43.21(b), Holding Company Annual Report.

Form No.: N/A.

Type of Review: Extension of a currently approved collection.

Respondents: Business or other for profit.

Number of Respondents: 20.

Estimated Time Per Response: 1 hour.

Frequency of Response: Annual reporting requirement.

Total Annual Burden: 20 hours.

Annual Reporting and Recordkeeping Cost Burden: N/A.

Needs and Uses: The SEC 10K form is needed from holding companies of communications common carriers to provide the Commission with the data required to fulfill its regulatory responsibilities and by the public in analyzing the industry. Selected information is compiled and published in the Commission's annual common carrier statistical publication.

OMB Control No.: 3060-0894.

Title: Certification Letter Accounting for Receipt of Federal Support, CC Docket Nos. 96-45 and 96-262.

Form No.: N/A.

Type of Review: Extension of a currently approved collection.

Respondents: State, local or tribal government.

Number of Respondents: 51.

Estimated Time Per Response: 3 hours.

Frequency of Response: On occasion and annual reporting requirements.

Total Annual Burden: 153 hours.

Annual Reporting and Recordkeeping Cost Burden: N/A.

Needs and Uses: The Commission requires states to certify that carriers with the state had accounted for its receipt of federal support in its rates or otherwise used the support pursuant with section 254(e).

Federal Communications Commission.
Marlene H. Dortch,
Secretary.

[FR Doc. 03-3866 Filed 2-18-03; 8:45 am]

BILLING CODE 6712-01-P